DEPARTMENT OF VETERANS AFFAIRS

Advisory Committee on Structural Safety of Department of Veterans Affairs Facilities, Notice of Meeting

The Department of Veterans Affairs (VA), in accordance with Public Law 92-463, gives notice that a meeting of the Advisory Committee on Structural Safety of Department of Veterans Affairs Facilities (Committee) will be held on:

Thursday, June 22, 2000: 10 a.m. to 5 p.m.

Friday, June 23, 2000: 9 a.m. to 12 p.m.

The location of the meeting will be 811 Vermont Avenue, NW., Washington, DC, Room 460 on June 22, 2000, and Room 442 on June 23, 2000.

The purpose of the Committee is to advise the Secretary on matters of structural safety in the construction and remodeling of VA facilities and to recommend standards for use by VA in the construction and alteration of facilities as prescribed under Section 8105 of Title 38, United States Code.

On June 22, the Committee will review the developments in the field of structural design, as they relate to seismic safety of buildings, and fire safety issues. On June 23, the Committee will vote on structural and fire safety issues for inclusion in VA's standards.

Both meetings will be open to the public. It will be necessary for those wishing to attend to contact Krishna K. Banga, Senior Structural Engineer, Facilities Quality Service, Office of Facilities Management, Department of Veterans Affairs Central Office (phone 202-565-9370) prior to the meeting.

Dated: June 12, 2000.
By Direction of the Secretary.
Marvin R. Eason,
Committee Management Officer.

[FR Doc. 00-15802 Filed 6-21-00; 8:45 am]

BILLING CODE 8320-01-M